DEPARTMENT OF ENERGY

Federal Energy Regulatory Commission

Combined Notice of Filings #1

August 11, 2010.

Take notice that the Commission received the following electric rate filings:

Docket Numbers: ER10-1403-001.

Applicants: Stephentown Regulation Services LLC.

Description: Stephentown Regulation Services LLC submits redlined and clean versions of their market-based rate tariff.

Filed Date: 08/10/2010.

Accession Number: 20100811-0201.

Comment Date: 5 p.m. Eastern Time on Tuesday, August 31, 2010.

Docket Numbers: ER10-2189-000.

Applicants: NASDAQ OMX Commodities Clearing-Delivery, LLC.

Description: NASDAQ OMX Commodities Clearing-Delivery LLC submits tariff filing per 35.12: Market-Based Rate Tariff in Compliance with Order No. 714 to be effective 8/10/2010.

Filed Date: 08/10/2010.

Accession Number: 20100810-5100.

Comment Date: 5 p.m. Eastern Time on Tuesday, August 31, 2010.

Docket Numbers: ER10-2190-000.

Applicants: Florida Power & Light Company.

Description: Florida Power & Light Company submits tariff filing per 35.12: FPL Tariff No. 1 Baseline Filing to be effective 8/10/2010.

Filed Date: 08/10/2010.

Accession Number: 20100810-5115.

Comment Date: 5 p.m. Eastern Time on Tuesday, August 31, 2010.

Docket Numbers: ER10-2191-000.

Applicants: California Independent System Operator Corporation.

Description: California Independent System Operator Corporation submits tariff filing per 35: 2010-08-10 ISO Request for Tariff Waiver re Request Window for Economic Projects.

Filed Date: 08/10/2010.

Accession Number: 20100810-5118.

Comment Date: 5 p.m. Eastern Time on Tuesday, August 31, 2010.

Docket Numbers: ER10-2192-000.

Applicants: Constellation Energy Commodities Group Maine, LLC .

Description: Constellation Energy Commodities Group Maine, LLC submits tariff filing per 35.12: Constellation Energy Commodities Group Maine Baseline MBR Tariff to be effective 8/10/2010.

Filed Date: 08/10/2010.

Accession Number: 20100810-5122.

Comment Date: 5 p.m. Eastern Time on Tuesday, August 31, 2010.

Docket Numbers: ER10-2193-000.

Applicants: H.Q. Energy Services (U.S.) Inc.

Description: H.Q. Energy Services (U.S.) Inc. submits tariff filing per 35.12: HQUS Baseline to be effective 8/11/2010.

Filed Date: 08/11/2010.

Accession Number: 20100811-5057.

Comment Date: 5 p.m. Eastern Time on Wednesday, September 01, 2010.

Docket Numbers: ER10-2194-000.

Applicants: Luminant Energy Company LLC.

Description: Luminant Energy Company LLC submits tariff filing per 35.12: Luminant Energy Company LLC MBR Baseline to be effective 8/11/2010.

Filed Date: 08/11/2010.

Accession Number: 20100811-5060.

Comment Date: 5 p.m. Eastern Time on Wednesday, September 01, 2010.

Docket Numbers: ER10-2195-000.

Applicants: Driftwood, LLC.

Description: Driftwood LLC submits the Petition for Acceptance of Initial Tariff, Waivers and Blanket Authorization, Rate Schedule FERC No. 1.

Filed Date: 08/11/2010.

Accession Number: 20100811-0203.

Comment Date: 5 p.m. Eastern Time on Wednesday, September 01, 2010.

Docket Numbers: ER10-2196-000.

Applicants: Lakewood Cogeneration Limited Partnership.

Description: Lakewood Cogeneration Limited Partnership submits tariff filing per 35.12: Lakewood Cogeneration Limited Partnership MBR Baseline to be effective 8/11/2010.

Filed Date: 08/11/2010.

Accession Number: 20100811-5062.

Comment Date: 5 p.m. Eastern Time on Wednesday, September 01, 2010.

Docket Numbers: ER10-2197-000.

Applicants: Northern States Power Company, a Wisconsin Corporation.

Description: Northern States Power Company, a Wisconsin Corporation submits tariff filing per 35: 20100811_Baseline Filing to be effective 8/11/2010.

Filed Date: 08/11/2010.

Accession Number: 20100811-5078.

Comment Date: 5 p.m. Eastern Time on Wednesday, September 01, 2010.

Take notice that the Commission received the following electric securities filings:

Docket Numbers: ES10-53-000.

Applicants: PATH Allegheny Transmission Company, LLC, PATH Allegheny Maryland Transmission Commission.

Description: PATH Allegheny Transmission Company, LLC, et al., Amendment to Section 204 Application.

Filed Date: 08/10/2010.

Accession Number: 20100810-5102.

Comment Date: 5 p.m. Eastern Time on Tuesday, August 31, 2010.

Take notice that the Commission received the following public utility holding company filings:

Docket Numbers: PH10-17-000.

Applicants: Continental Energy Systems LLC.

Description: Notice of Material Change in Facts for FERC-65A Exemption and FERC-65B Waiver of Continental Energy Systems LLC.

Filed Date: 08/10/2010.

Accession Number: 20100810-5114.

Comment Date: 5 p.m. Eastern Time on Tuesday, August 31, 2010.

Take notice that the Commission received the following electric reliability filings:

Docket Numbers: RD10-14-000.

Applicants: North American Electric Reliability Corporation.

Description: First Quarter 2010 Compliance Filing of the North American Electric Reliability Corporation in Response to Paragraph 629 of Order No. 693.

Filed Date: 06/01/2010.

Accession Number: 20100601-5214.

Comment Date: 5 p.m. Eastern Time on Tuesday, August 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-20506 Filed 8-18-10; 8:45 am]

BILLING CODE 6717-01-P